DEPARTMENT OF THE INTERIOR

National Park Service

[NPS-WASO-NAGPRA-NPS0029092; PPWOCRADN0-PCU00RP14.R50000]

Notice of Inventory Completion: Tennessee Valley Authority, Knoxville, TN

AGENCY: National Park Service, Interior.

ACTION: Notice.

SUMMARY: The Tennessee Valley Authority (TVA) has completed an inventory of human remains in consultation with the appropriate Indian Tribes and Native Hawaiian organizations, and has determined that there is no cultural affiliation between the human remains and any present-day Indian Tribes or Native Hawaiian organizations. Representatives of any Indian Tribe or Native Hawaiian organization not identified in this notice that wish to request transfer of control of these human remains should submit a written request to the TVA. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the TVA at the address in this notice by December 27, 2019.

ADDRESSES: Dr. Thomas O. Maher, TVA, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains under the control of the Tennessee Valley Authority, Knoxville, TN. The human remains were removed from archeological sites in Lauderdale and Madison Counties, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

The sites listed in this notice were excavated as part of TVA's Wheeler Reservoir project by the Alabama Museum of Natural History (AMNH) at the University of Alabama, using labor and funds provided by the Works Progress Administration. Details regarding these excavations and sites may be found in a report, “An Archaeological Survey of Wheeler Basin on the Tennessee River in Northern Alabama,” by William S. Webb. Human remains and other associated funerary objects from the two sites covered by this notice were previously listed in a Notice of Inventory Completion published in the Federal Register on December 21, 2018 (83 FR 65730-65731, December 21, 2018), and were transferred to the Cherokee Nation, Eastern Band of Cherokee Indians, The Chickasaw Nation, and the United Keetoowah Band of Cherokee Indians in Oklahoma. Additional human remains were found during a recent improvement in the curation of the TVA archaeological collections at AMNH.

In March 1934, human remains representing, at minimum, five individuals were removed from site 1LU86 in Lauderdale County, AL. TVA acquired this site on October 9, 1934, for the Wheeler Reservoir project. The excavation in March 1934, undertaken prior to the acquisition of the site, was conducted using Federal funds in anticipation of the inundation of the site. This site was 350 feet long and 200 feet wide. Although described as a mound, it appears to have been an accumulation of shell, midden debris, and natural floodplain soils, rather than intentionally constructed earthen works. No structures were identified, but there were multiple hearths, midden-filled pits, and human burials. There are no radiocarbon dates for this site. Recovered artifacts suggest multiple occupations including Late Archaic (4000-1000 B.C.), Early Woodland (1000-500 B.C.), Middle Woodland Copena Phase (A.D. 100-500), Late Woodland (A.D. 500-1000) and Mississippian (A.D. 1200-1500) periods. The human remains include four adults and one infant of indeterminate sex. No known individuals were identified. There are no associated funerary objects.

From February through March 1934, human remains representing, at minimum, three individuals were removed from site 1MA4, in Madison County, AL. TVA acquired a strip of land around the periphery of Hobbs Island encompassing this site on May 23, 1939, as part of the Wheeler Reservoir project. The excavation in March 1934 was conducted with Federal funds in anticipation of the inundation of this site. The site was a shell midden 300 x 125 feet and adjacent to the island's shoreline. There are no radiocarbon dates available for this site, but artifacts from a non-mortuary context suggest Langston (A.D. 900-1200) and Hobbs Island (A.D. 1200-1450) phase occupations. The human remains include two adults and one child of indeterminate sex. No known individuals were identified. There are no associated funerary objects.

Determinations Made by the Tennessee Valley Authority

Officials of the Tennessee Valley Authority have determined that:

• Pursuant to 25 U.S.C. 3001(9), the human remains described in this notice are Native American based on their presence in prehistoric archeological sites and an osteological analysis.

• Pursuant to 25 U.S.C. 3001(9), the human remains described in this notice represent the physical remains of eight individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Cherokee Nation; Eastern Band of Cherokee Indians; and the United Keetoowah Band of Cherokee Indians in Oklahoma.

• The Treaty of September 20, 1816, indicates that the land from which the Native American human remains were removed is the aboriginal land of The Chickasaw Nation.

• Pursuant to 43 CFR 10.11(c)(1), the disposition of the human remains may be to the Cherokee Nation; Eastern Band of Cherokee Indians; The Chickasaw Nation; and the United Keetoowah Band of Cherokee Indians in Oklahoma.

Additional Requestors and Disposition

Representatives of any Indian Tribe or Native Hawaiian organization not identified in this notice that wish to request transfer of control of these human remains should submit a written request with information in support of the request to Dr. Thomas O. Maher, TVA, 400 West Summit Hill Drive, WT11C, Knoxville, TN 37902-1401, telephone (865) 632-7458, email tomaher@tva.gov, by December 27, 2019. After that date, if no additional requestors have come forward, transfer of control of the human remains to the Cherokee Nation; Eastern Band of Cherokee Indians; The Chickasaw Nation; and the United Keetoowah Band of Cherokee Indians in Oklahoma may proceed.

The Tennessee Valley Authority is responsible for notifying The Consulted Tribes that this notice has been published.

Dated: October 8, 2019.
Melanie O'Brien,
Manager, National NAGPRA Program.

[FR Doc. 2019-25730 Filed 11-26-19; 8:45 am]

BILLING CODE 4312-52-P